DEPARTMENT OF ENERGY

Federal Energy Regulatory Commission

Combined Notice of Filings No. 1

Take notice that the Commission has received the following Natural Gas Pipeline Rate and Refund Report filings:

Docket Numbers: RP11-2331-000.

Applicants: Natural Gas Pipeline Company of America LLC.

Description: Natural Gas Pipeline Company of America LLC submits tariff filing per 154.402: Annual Charge Adjustment to be effective 10/1/2011.

Filed Date: 08/01/2011.

Accession Number: 20110801-5029.

Comment Date: 5 p.m. Eastern Time on Monday, August 15, 2011.

Docket Numbers: RP11-2332-000.

Applicants: Southern Natural Gas Company.

Description: Southern Natural Gas Company submits tariff filing per 154.204: SNG Name Change to be effective 8/1/2011.

Filed Date: 08/01/2011.

Accession Number: 20110801-5040.

Comment Date: 5 p.m. Eastern Time on Monday, August 15, 2011.

Docket Numbers: RP11-2333-000.

Applicants: Kinder Morgan Louisiana Pipeline LLC.

Description: Kinder Morgan Louisiana Pipeline LLC submits tariff filing per 154.402: Annual Charge Adjustment Filing to be effective 10/1/2011.

Filed Date: 08/01/2011.

Accession Number: 20110801-5060.

Comment Date: 5 p.m. Eastern Time on Monday, August 15, 2011.

Docket Numbers: RP11-2334-000.

Applicants: Trailblazer Pipeline Company LLC.

Description: Trailblazer Pipeline Company LLC submits tariff filing per 154.402: Annual Charge Adjustment to be effective 10/1/2011.

Filed Date: 08/01/2011.

Accession Number: 20110801-5068.

Comment Date: 5 p.m. Eastern Time on Monday, August 15, 2011.

Docket Numbers: RP11-2335-000.

Applicants: Gulf Crossing Pipeline Company LLC.

Description: Gulf Crossing Pipeline Company LLC submits tariff filing per 154.204: BP K37-6 Amendment to Negotiated Rate Agreement Filing to be effective 8/1/2011.

Filed Date: 08/01/2011.

Accession Number: 20110801-5091.

Comment Date: 5 p.m. Eastern Time on Monday, August 15, 2011.

Docket Numbers: RP11-2336-000.

Applicants: Horizon Pipeline Company, L.L.C.

Description: Horizon Pipeline Company, L.L.C. submits tariff filing per 154.402: Annual Charge Adjustment Filing to be effective 10/1/2011.

Filed Date: 08/01/2011.

Accession Number: 20110801-5106.

Comment Date: 5 p.m. Eastern Time on Monday, August 15, 2011.

Docket Numbers: RP11-2337-000.

Applicants: Bobcat Gas Storage.

Description: Bobcat Gas Storage submits tariff filing per 154.204: Non-conforming Agreement Filing to be effective 9/1/2011.

Filed Date: 08/01/2011.

Accession Number: 20110801-5112.

Comment Date: 5 p.m. Eastern Time on Monday, August 15, 2011.

Docket Numbers: RP11-2338-000.

Applicants: Bobcat Gas Storage.

Description: Bobcat Gas Storage submits tariff filing per 154.204: Revision to FSS Form of Service Agreement to be effective 9/1/2011.

Filed Date: 08/01/2011.

Accession Number: 20110801-5113.

Comment Date: 5 p.m. Eastern Time on Monday, August 15, 2011.

Docket Numbers: RP11-2339-000.

Applicants: Gulf Crossing Pipeline Company LLC.

Description: Gulf Crossing Pipeline Company LLC submits tariff filing per 154.204: BP K37-7 Amendment to Negotiated Rate Agreement Filing to be effective 8/2/2011.

Filed Date: 08/01/2011.

Accession Number: 20110801-5114.

Comment Date: 5 p.m. Eastern Time on Monday, August 15, 2011.

Docket Numbers: RP11-2340-000.

Applicants: Discovery Gas Transmission LLC.

Description: Discovery Gas Transmission LLC submits tariff filing per 154.204: August 1, 2011 Clean-up Filing to be effective 9/1/2011.

Filed Date: 08/01/2011.

Accession Number: 20110801-5117.

Comment Date: 5 p.m. Eastern Time on Monday, August 15, 2011.

Docket Numbers: RP11-2341-000.

Applicants: Natural Gas Pipeline Company of America LLC.

Description: Natural Gas Pipeline Company of America LLC submits tariff filing per 154.204: Negotiated Rate Filing—Secure Energy to be effective 8/1/2011.

Filed Date: 08/01/2011.

Accession Number: 20110801-5121.

Comment Date: 5 p.m. Eastern Time on Monday, August 15, 2011.

Docket Numbers: RP11-2342-000.

Applicants: Kinder Morgan Illinois Pipeline LLC.

Description: Kinder Morgan Illinois Pipeline LLC submits tariff filing per 154.402: Annual Charge Adjustment Filing to be effective 10/1/2011.

Filed Date: 08/01/2011.

Accession Number: 20110801-5127.

Comment Date: 5 p.m. Eastern Time on Monday, August 15, 2011.

Docket Numbers: RP11-2343-000.

Applicants: CenterPoint Energy Gas Transmission Company, LLC.

Description: CenterPoint Energy Gas Transmission Company, LLC submits tariff filing per 154.204: CEGT LLC—Negotiated Rate—August 2011—Macquarie to be effective 8/1/2011.

Filed Date: 08/01/2011.

Accession Number: 20110801-5151.

Comment Date: 5 p.m. Eastern Time on Monday, August 15, 2011.

Docket Numbers: RP11-2344-000.

Applicants: Midcontinent Express Pipeline LLC.

Description: Midcontinent Express Pipeline LLC submits tariff filing per 154.402: Annual Charge Adjustment Filing to be effective 10/1/2011.

Filed Date: 08/01/2011.

Accession Number: 20110801-5154.

Comment Date: 5 p.m. Eastern Time on Monday, August 15, 2011.

Docket Numbers: RP11-2345-000.

Applicants: Fayetteville Express Pipeline LLC.

Description: Fayetteville Express Pipeline LLC submits tariff filing per 154.204: FEP BHP NCA Filing to be effective 8/1/2011.

Filed Date: 08/01/2011.

Accession Number: 20110801-5161.

Comment Date: 5 p.m. Eastern Time on Monday, August 15, 2011.

Docket Numbers: RP11-2346-000.

Applicants: Wyoming Interstate Company, L.L.C.

Description: Wyoming Interstate Company, L.L.C. submits tariff filing per 154.403(d)(2): WIC FL&U Filing effective 9-1-11.

Filed Date: 08/01/2011.

Accession Number: 20110801-5162.

Comment Date: 5 p.m. Eastern Time on Monday, August 15, 2011.

Docket Numbers: RP11-2347-000.

Applicants: Ozark Gas Transmission, L.L.C.

Description: Ozark Gas Transmission, L.L.C. submits tariff filing per 154.204: Receipt and Delivery Pressure Modification to be effective 9/1/2011.

Filed Date: 08/01/2011.

Accession Number: 20110801-5164.

Comment Date: 5 p.m. Eastern Time on Monday, August 15, 2011.

Docket Numbers: RP11-2348-000.

Applicants: Wyoming Interstate Company, L.L.C.

Description: Wyoming Interstate Company, L.L.C. Request for Limited Waiver.

Filed Date: 08/01/2011.

Accession Number: 20110801-5221.

Comment Date: 5 p.m. Eastern Time on Monday, August 15, 2011.

Docket Numbers: RP11-2349-000.

Applicants: Ozark Gas Transmission, L.L.C.

Description: Ozark Gas Transmission, L.L.C. submits tariff filing per 154.204: Non-conforming Agreements to be effective 9/1/2011.

Filed Date: 08/02/2011.

Accession Number: 20110802-5037.

Comment Date: 5 p.m. Eastern Time on Monday, August 15, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: August 2, 2011.
Kimberly D. Bose,
Secretary.

[FR Doc. 2011-20065 Filed 8-8-11; 8:45 am]

BILLING CODE 6717-01-P